DEPARTMENT OF ENERGY

Federal Energy Regulatory Commission

[Project No. 14799-001]

Lock 13 Hydro Partners, LLC; Notice of Intent To File License Application, Filing of Pre-Application Document, and Approving Use of the Traditional Licensing Process

a. Type of Filing: Notice of Intent to File License Application and Request to Use the Traditional Licensing Process.

b. Project No.: 14799-001.

c. Date Filed: September 7, 2017.

d. Submitted By: Lock 13 Hydro Partners, LLC.

e. Name of Project: Evelyn Hydroelectric Project.

f. Location: On the Kentucky River, in Lee and Estill Counties, Kentucky. No federal land occupied by the project works or located within the project boundary.

g. Filed Pursuant to: 18 CFR 5.3 of the Commission's regulations.

h. Potential Applicant Contact: David Brown Kinloch, Lock 13 Hydro Partners, LLC, 414 S. Wenzel Street, Louisville, KY 40204; (502) 589-0975; email—kyhydropower@gmail.com.

i. FERC Contact: Sarah Salazar at (202) 502-6863; or email at sarah.salazar@ferc.gov.

j. Lock 13 Hydro Partners, LLC filed its request to use the Traditional Licensing Process on September 7, 2017. Lock 13 Hydro Partners, LLC provided public notice of its request on September 14, 2017. In a letter dated November 6, 2017, the Director of the Division of Hydropower Licensing approved Lock 13 Hydro Partners, LLC's request to use the Traditional Licensing Process.

k. With this notice, we are initiating informal consultation with the U.S. Fish and Wildlife Service and/or NOAA Fisheries under section 7 of the Endangered Species Act and the joint agency regulations thereunder at 50 CFR, Part 402. We are also initiating consultation with the Kentucky State Historic Preservation Officer, as required by section 106 of the National Historic Preservation Act, and the implementing regulations of the Advisory Council on Historic Preservation at 36 CFR 800.2.

l. With this notice, we are designating Lock 13 Hydro Partners, LLC as the Commission's non-federal representative for carrying out informal consultation pursuant to section 7 of the Endangered Species Act and consultation pursuant to section 106 of the National Historic Preservation Act.

m. Lock 13 Hydro Partners, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the eLibrary link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: November 6, 2017.
Kimberly D. Bose,
Secretary.

[FR Doc. 2017-24460 Filed 11-9-17; 8:45 am]

BILLING CODE 6717-01-P